Executive Order 13797 of April 29, 2017

Establishment of Office of Trade and Manufacturing Policy

By the authority vested in me as President by the Constitution and the laws of the United States of America, it is hereby ordered as follows:

Section 1. Establishment. The Office of Trade and Manufacturing Policy (OTMP) is hereby established within the White House Office. The OTMP shall consist of a Director selected by the President and such staff as deemed necessary by the Assistant to the President and Chief of Staff.

Sec. 2. Mission. The mission of the OTMP is to defend and serve American workers and domestic manufacturers while advising the President on policies to increase economic growth, decrease the trade deficit, and strengthen the United States manufacturing and defense industrial bases.

Sec. 3. Responsibilities. The OTMP shall:

(a) advise the President on innovative strategies and promote trade policies consistent with the President's stated goals;

(b) serve as a liaison between the White House and the Department of Commerce and undertake trade-related special projects as requested by the President; and

(c) help improve the performance of the executive branch's domestic procurement and hiring policies, including through the implementation of the policies described in Executive Order 13788 of April 18, 2017 (Buy American and Hire American).

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 29, 2017.

[FR Doc. 2017-09161

Filed 5-3-17; 8:45 am]

Billing code 3295-F7-P